DEPARTMENT OF TRANSPORTATION

Coast Guard

33 CFR Part 117

[CGD05-00-042]

Drawbridge Operation Regulations; Milford Haven, VA

AGENCY: Coast Guard, DOT.

ACTION: Notice of temporary deviation from regulations.

SUMMARY: The Commander, Fifth Coast Guard District, has approved a temporary deviation from the regulations governing the operation of the Gwynns Island Drawbridge across Milford Haven, mile 0.1, in Grimstead, Virginia. Beginning at 6 a.m. on September 25, through 6 p.m. on November 23, 2000, the bridge may remain in the closed position. This closure is necessary to encapsulate the entire bridge structure for painting.

DATES: This deviation is effective from 6 a.m. on September 25 until 6 p.m. on November 23, 2000.

FOR FURTHER INFORMATION CONTACT: Ann B. Deaton, Bridge Administrator, Fifth Coast Guard District, at (757) 398-6222.

SUPPLEMENTARY INFORMATION: The Coast Guard received an electronic e-mail from the Virginia Department of Transportation July 28, 2000, requesting a temporary deviation from the current operating schedule of the Gwynns Island drawbridge. Presently, the draw is required to open on signal at all times. This requirement is included in the general operating regulations at 33 CFR 117.5. The work to be performed on the Gwynns Island Drawbridge primarily consists of encapsulating the entire structure with a canvas shroud, sand blasting the old paint off, then applying several coats of fresh paint.

This work requires completely immobilizing the operation of the swing span. In accordance with 33 CFR 117.35, the District Commander approved VDOT's request for a temporary deviation from the governing regulations in a letter dated August 23, 2000.

The Coast Guard has informed the known users of the waterway of the bridge closure so that these vessels can arrange their transits to minimize any impact caused by the temporary deviation.

The temporary deviation allows the Gwynns Island Drawbridge across the Milford Haven, mile 0.1, in Grimstead, Virginia to remain closed from 6 a.m. on September 25, until 6 p.m. on November 23, 2000.

Dated: September 11, 2000.
J. E. Shkor,
U.S. Coast Guard, Commander, Fifth Coast Guard District.

[FR Doc. 00-24168 Filed 9-19-00; 8:45 am]

BILLING CODE 4910-15-P